DEPARTMENT OF ENERGY

Federal Energy Regulatory Commission

[Docket No. EL04-115-000, et al.]

New York Independent System Operator, Inc., et al.; Electric Rate and Corporate Filings

July 6, 2004.

The following filings have been made with the Commission. The filings are listed in ascending order within each docket classification.

1. New York Independent System Operator, Inc.

[Docket Nos. EL04-115-000 and ER04-983-000]

Take notice that on July 2, 2004, the New York Independent System Operator, Inc. (NYISO) filed a request for a settlement conference, and an alternative four-part remedial plan that would address the effects of a Transmission Congestion Contract (TCC) database transcription error on several recent TCC auctions. NYISO states that the remedial plan includes proposed tariff revisions that the NYISO is submitting under its authority to file tariff revisions in “exigent circumstances”.

NYISO states that it has electronically served a copy of this filing on the official representative of each of its customers, on each participant in its stakeholder committees, on the New York State Public Service Commission.

Comment Date: July 12, 2004.

2. Midwest Independent Transmission System Operator, Inc.

[Docket Nos. ER98-1438-021 and EC98-24-013]

Take notice that on June 30, 2004, the Midwest Independent Transmission System Operator, Inc. (Midwest ISO) submitted for filing proposed revisions to the Midwest ISO's Open Access Transmission Tariff in compliance with the Commission's June 2, 2004 Order, Independent Transmission System Operator, Inc., et al., 107 FERC ¶ 61,205 (2004). The Midwest ISO has requested an effective date of July 1, 2004.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region and in addition, the filing has been electronically posted on the Midwest ISO's Web site at http://www.midwestiso.org under the heading “Filings to FERC” for other interested parties in this matter. The Midwest ISO states that it will provide hard copies to any interested parties upon request.

Comment Date: July 21, 2004.

3. New England Power Pool and ISO New England Inc.

[Docket No. ER02-2330-028]

Take notice that on June 30, 2004, ISO New England Inc. (ISO) submitted a Status Report on Development of Day-Ahead Load Response Program as directed by the Commission's order issued November 17, 2003, 105 FERC ¶ 61,211.

ISO states that copies of the filing have been served on all parties to the above-captioned proceeding.

Comment Date: July 21, 2004.

4. New England Power Pool

[Docket No. ER03-345-003]

Take notice that on June 30, 2004, ISO New England Inc. (ISO) submitted a Semi-Annual Status Report on Load Response Programs as directed by the Commission order issued February 25, 2003, 102 FERC ¶ 61,202.

ISO states that copies of the filing have been served on all parties to the above-captioned proceeding, as well as on the governors and electric utility regulatory agencies for the six New England states that comprise the NEPOOL Control Area. In addition, all NEPOOL Participants Committee members are being furnished with an electronic copy of the status report.

Comment Date: July 21, 2004.

5. Devon Power LLC, Middletown Power LLC, Montville Power LLC, Norwalk Power LLC and NRG

[Docket No. ER03-563-037] Power Marketing Inc.

Take notice that on June 29, 2004, Devon Power LLC, Middletown Power LLC, Montville Power LLC, and Norwalk Power LLC (collectively Applicants) tendered for filing an errata to the April 7, 2004 filing in Docket No. ER04-563-032 of their True-Up Schedules to the Cost-of-Service Agreements between each Applicant and ISO New England Inc. (ISO-NE).

Applicants state that they have provided copies of the errata filing to ISO-NE and served each person designated on the official service list compiled by the Secretary in this proceeding.

Comment Date: July 20, 2004.

6. Calpine Energy Services, L.P.

[Docket No. ER04-889-001]

Take notice that on June 30, 2004, Calpine Energy Services, L.P. (CES) tendered for filing an amendment to its May 29, 2004 application submitting a rate schedule for reactive power from the Calpine Parlin Energy Center facility for sale to PJM Interconnection, L.L.C. CES requests an effective date of August 1, 2004.

Comment Date: July 21, 2004.

7. Pacific Gas and Electric Company

[Docket No. ER04-972-000]

Take notice that on June 30, 2004, Pacific Gas and Electric Company (PG&E) tendered for filing a Generator Special Facilities Agreement (GSFA), and Generator Interconnection Agreement (GIA) between PG&E and Lompoc Wind Project, LLC (Lompoc) (collectively, Parties). PG&E requests an effective date of March 31, 2004.

PG&E states that copies of this filing have been served upon Lompoc, California Independent System Operator Corporation and the California Public Utilities Commission.

Comment Date: July 21, 2004.

8. Central Maine Power Company

[Docket No. ER04-973-000]

Take notice that on June 30, 2004, Central Maine Power Company (CMP) tendered for filing, in accordance with section 1.18 of the Settlement Agreement approved in Docket Nos. ER00-26-000, et al., an informational filing containing the data used to update the formula rates in CMP's Open Access Transmission Tariff. CMP states that the charges associated with the updated data took effect June 1, 2004.

CMP states that copies of this filing were served on Commission Staff and the Maine Public Utilities Commission.

Comment Date: July 21, 2004.

9. Avista Corporation

[Docket No. ER04-974-000]

Take notice that Avista Corporation (Avista) on June 30, 2004 tendered for filing proposed revisions to its Open Access Transmission Tariff (OATT), to comply with the Commission's Order No. 2003, Standardization of Interconnection Agreements and Procedures, FERC Stats. & Regs. Preambles ¶ 31,146 (2003) and Order No. 2003-A, 106 FERC ¶ 61,220. Avista requests an effective date of September 1, 2004.

Avista states that it has served copies of this filing on the Washington Utilities and Transportation Commission and the Idaho Public Utilities Commission. Additionally, Avista states that it has sent a letter by U.S. mail to all of its Transmission Customers to notify them that this filing has been made and to let them know that a copy of the filing can be obtained on the Avista OASIS.

Comment Date: July 21, 2004.

10. Southwestern Electric Power Company

[Docket No. ER04-975-000]

Take notice that on June 30, 2004, Southwestern Electric Power Company (SWEPCO) submitted for filing actuarial reports in support of the amounts to be collected in SWEPCO's 2003 actual and 2004 projected formula rates for post-employment benefits other than pensions as directed by the Statement of Financial Accounting Standard No. 106, issued by the Financial Accounting Standards Board, and the collection in such formula rates of other post-employment benefits as directed by Statement of Financial Accounting Standard No. 112, issued by the Financial Accounting Standards Board. SWEPCO requests an effective date of January 1, 2003.

SWEPCO states that it has served copies of the transmittal letter on all of its formula rate customers, the Arkansas Public Service Commission, the Louisiana Public Service Commission and the Public Utility Commission of Texas.

Comment Date: July 21, 2004.

11. Entergy Services, Inc.

[Docket No. ER04-976-000]

Take notice that on June 30, 2004, Entergy Services, Inc. (Entergy Services), on behalf of the Entergy Operating Companies, which include Entergy Arkansas, Inc., Entergy Gulf States, Inc., Entergy Louisiana, Inc., Entergy Mississippi, Inc., and Entergy New Orleans, Inc., tendered for filing a Network Integration Transmission Service Agreement and a Network Operating Agreement between Entergy Services and the City of Ruston, Louisiana. Entergy Services requests an effective date of June 1, 2004.

Comment Date: July 21, 2004.

12. New England Power Company

[Docket No. ER04-977-000]

Take notice that on June 30, 2004, New England Power Company (NEP) submitted for filing Second Revised Service Agreement No. 200 between NEP and Rhode Island State Energy Statutory Trust 2000, as successor in interest by merger to Rhode Island State Energy Partners, L.P., (RISEST) for Firm Local Generation Delivery Service under NEP's FERC Electric Tariff, Second Revised Volume No. 9. NEP requests an effective date of June 30, 2004.

NEP states that copies of the filing have been served upon RISEST and the Rhode Island Public Utilities Commission.

Comment Date: July 21, 2004.

13. Calpine Energy Services, L.P.

[Docket No. ER04-978-000]

Take notice that on June 30, 2004, Calpine Energy Services, L.P. (CES) tendered for filing, under section 205 of the Federal Power Act, a rate schedule for reactive power from the Calpine Newark Energy Center facility for sale to PJM Interconnection, L.L.P. CES requests an effective date of September 1, 2004.

Comment Date: July 21, 2004.

14. PJM Interconnection, L.L.C.

[Docket No. ER04-979-000]

Take notice that on June 30, 2004, PJM Interconnection, L.L.C. (PJM) filed revisions to the PJM Open Access Transmission Tariff and Amended and Restated Operating Agreement of PJM Interconnection, L.L.C. to support PJM's participation in an agreement with First Energy Solutions Corp. (FE) that allows PJM to request redispatch under certain circumstances of specified FE generating units outside the PJM region to help alleviate transmission constraints within the PJM region. PJM requests an effective date of July 1, 2004.

PJM states that copies of the filing were served on all PJM members and the utility regulatory commissions in the PJM region.

Comment Date: July 21, 2004.

15. Conectiv Bethlehem, LLC

[Docket No. ER04-980-000]

Take notice that on June 30, 2004, Conectiv Bethlehem, LLC (CBLLC) submitted for filing its Second Revised Rate Schedule FERC No. 1, a rate schedule and cost support for its Reactive Supply and Voltage Control from Generation Sources Service to be provided by its 1090 MW generating station located in Bethlehem, Pennsylvania, pursuant to Section 205 of the Federal Power Act and Schedule 2 of the PJM Interconnection, L.L.C. (PJM) Open Access Transmission Tariff. CBLLC seeks an effective date of September 1, 2004.

CBLLC states that it has served copies of the filing upon PJM, PP&L Electric Utilities Corporation and the Pennsylvania Public Utility Commission.

Comment Date: July 21, 2004.

16. Connecticut Yankee Atomic Power Company

[Docket No. ER04-981-000]

Take notice that on July 1, 2004, Connecticut Yankee Atomic Power Company (CY) submitted for filing revisions to CY's wholesale power contract, Connecticut Yankee Atomic Power Company, Rate Schedule FERC Nos. 10 and 11 (the Power Contract) to increase collections to recover the costs of completing the decommissioning of CY's retired nuclear generating plant. CY requests an effective date of September 1, 2004.

CY states that copies of this filing have been served on CY's wholesale customers and regulators in the states of Massachusetts, Connecticut, Rhode Island, Vermont, Maine and New Hampshire.

Comment Date: July 22, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1522 Filed 7-12-04; 8:45 am]

BILLING CODE 6717-01-P